DEPARTMENT OF TRANSPORTATION

Federal Motor Carrier Safety Administration

49 CFR Part 391

[Docket No. FMCSA-2012-0178]

Physical Qualifications and Examinations: Medical Examination Report and Medical Examiner's Certificate Forms

AGENCY: Federal Motor Carrier Safety Administration (FMCSA), DOT.

ACTION: Notice of decision on use of Medical Examination Report and Medical Examiner's Certificate Forms.

SUMMARY: FMCSA announces its decision to allow certified Medical Examiners (MEs) to use the Medical Examination Report (MER) Form, MCSA-5875, and Medical Examiner's Certificate (MEC), Form MCSA-5876, with October, November, and December, 2015 revision dates that are located in the top left corner of the forms until existing stocks are depleted. For MEs in an office where these forms have been programmed into an electronic system that will require IT programming, the current approved versions of the forms should be programmed as soon as practicable. FMCSA published sample versions of the forms in October and November 2015 prior to posting fillable Portable Document Format (PDF) versions in December 2015. Based on the fact that the October and November 2015 forms contain minor differences yet collect the same information as the fillable PDF version, FMCSA determined the October and November versions are acceptable. In addition, MEs are also allowed to continue to use the versions of the MER Form, MCSA-5875, that include the Privacy Act Statement on page one until stocks are depleted. For MEs in an office where these forms have been programmed into an electronic system that will require IT programming, the current approved versions of the forms should be programmed as soon as practicable. The versions of the forms currently posted by FMCSA include nonsubstantive changes that were approved by the Office of Management and Budget (OMB) on April 7, 2016 and September 6, 2016, and no longer include the Privacy Act Statement or a revision date in the top left corner. State Driver's Licensing Agencies (SDLAs) should not accept versions of the MEC that have not been approved by OMB, and do not display both the FMCSA form number (MCSA-5876) and the OMB expiration date of August 31, 2018.

DATES: This decision is in effect on October 27, 2016.

ADDRESSES: You may search background documents or comments to the docket for this rule, identified by docket number FMCSA-2012-0178, by visiting the:

• Federal eRulemaking Portal: http://www.regulations.gov. Follow the online instructions for reviewing documents and comments. Regulations.gov is available electronically 24 hours each day, 365 days a year; or

• DOT Docket Management Facility (M-30): U.S. Department of Transportation (DOT), 1200 New Jersey Avenue SE., West Building, Ground Floor, Room 12-140, Washington, DC 20590-0001.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, Office of Policy, Federal Motor Carrier Safety Administration, 1200 New Jersey Avenue SE., Washington, DC 20590; telephone (202) 366-4001; fmcsamedical@dot.gov. If you have questions about viewing or submitting material to the docket, contact Docket Services, telephone (202) 366-9826.

SUPPLEMENTARY INFORMATION:

I. Background

On April 23, 2015, FMCSA published a final rule adopting regulations to facilitate the electronic transmission of MEC information from FMCSA's National Registry system to SDLAs for holders of Commercial Driver's Licenses (CDL) and Commercial Learner's Permits (CLP). The final rule also requires the use of the prescribed MER Form, MCSA-5875, in place of the MER and the prescribed MEC, Form MCSA-5876, in place of the MEC. Medical Examiner's Certification Integration (80 FR 22790, April 23, 2015). On August 5, 2015, FMCSA received approval from OMB, for use of the MER Form, MCSA-5875, and MEC, Form MCSA-5876, in a fillable Adobe Acrobat™ format.

FMCSA published sample versions of the MER Form, MCSA-5875, and MEC, Form MCSA-5876, with October and November, 2015 revision dates on the National Registry Web site with the intent and purpose of educating MEs regarding the use of new categories on the forms and assisting MEs in programming electronic medical records prior to the Agency's posting of the fillable Adobe Acrobat™ versions. At that time, at least one company that produces regulatory compliance publications and forms began printing and selling the MER Form, MCSA-5875, and MEC, Form MCSA-5876, with October and November, 2015 revision dates. On December 14, 2015, FMCSA posted the fillable Adobe Acrobat™ versions of the MER Form, MCSA-5875, and MEC, Form MCSA-5876, with December 2015 revision dates on the FMCSA and National Registry Web sites. Based on the fact that the October and November, 2015 forms contain minor differences yet collect the same information as the fillable Adobe Acrobat™ versions posted by FMCSA on December 14, 2015, FMCSA made the decision to allow MEs to use any previously purchased existing stock of the MER Form, MCSA-5875, and MEC, Form MCSA-5876, with October or November, 2015 revision dates until stocks are depleted. For MEs in an office where these forms have been programmed into an electronic system that will require IT programming, the current approved versions of the forms should be programmed as soon as practicable.

On December 21, 2015, FMCSA published guidance providing a 120-day grace period during which MEs were allowed to use either the old MER and MEC or the newly prescribed MER Form, MCSA-5875, and MEC, Form MCSA-5876, until April 20, 2016 (80 FR 79273).

Subsequently, after receiving OMB approval for nonsubstantive changes to the forms, FMCSA posted the current versions of the MER Form, MCSA-5875, and MEC, Form MCSA-5876, on the FMCSA and National Registry Web sites on April 13, 2016. The current versions include several OMB approved nonsubstantive and functional changes but no longer include a revision date in the top left corner. The specific OMB approved non-substantive and functional changes can be found on the Office of Information and Regulatory Affairs Web site by selecting the following link, http://www.reginfo.gov/public/do/PRAViewDocument?ref_nbr=201604-2126-006, and then selecting the link for “Justification of Nonmaterial/Non-substantive Change.”

On June 7, 2016, the Department of Transportation's Chief Privacy Officer and Office of General Counsel reviewed the requirements of the rulemaking and determined that the collection of information maintained and held by MEs does not constitute information protected by the Privacy Act. Therefore, FMCSA submitted to OMB for approval a request for additional nonsubstantive changes including removal of the Privacy Act statement on page one of the MER Form, MCSA-5875, and the addition of disclaimer language regarding the protection of sensitive information that was approved on September 6, 2016. FMCSA has posted the current versions of the MER Form, MCSA-5875 and MEC, Form MCSA-5876 on the FMCSA and National Registry Web sites. The additional OMB-approved non-substantive changes can be found on the Office of Information and Regulatory Affairs Web site by selecting the following link http://www.reginfo.gov/public/do/PRAViewDocument?ref_nbr=201604-2126-006, and then selecting the link for “Justification of Nonmaterial/Non-substantive Change.”

II. Acceptable Versions of Forms

All changes to the MER and MEC forms since the August 5, 2015, date on which OMB provided approval for use of the forms were nonsubstantive in nature. Therefore, MEs are allowed to use MER Form, MCSA-5875, and MEC, Form MCSA-5876, with October, November, and December, 2015 revision dates until existing stocks are depleted. This includes forms produced by the private sector with October or November, 2015 revision dates that FMCSA never intended to be published for use by the public and fillable forms posted on the FMCSA and National Registry Web sites on December 14, 2015, as well as the MER Form, MCSA-5875, that includes the Privacy Act Statement on page one. For MEs in an office where these forms have been programmed into an electronic system that will require IT programming, the current approved versions of the forms should be programmed as soon as practicable. MEs are also encouraged to use the current versions of the forms that no longer include the Privacy Act Statement or a revision date in the top left corner, and can be found on the FMCSA and National Registry Web sites.

Under the provisions of 49 CFR 383.71(h), until June 22, 2018, commercial motor vehicle (CMV) drivers operating vehicles that require a CDL or CLP are required to provide SDLAs with an original or a copy of the MEC, Form MCSA-5876, for entry of the medical certification status on the driver record. FMCSA has learned that some SDLAs are refusing to accept from CMV drivers the MEC, Form MCSA-5876, with an October or November, 2015 revision date. In view of the clarification in this document of the status of the MEC, Form MCSA-5876, with various revision dates, FMCSA is directing SDLAs to accept the MEC, Form MCSA-5876, with October, November, and December, 2015 revision dates until existing stocks are depleted. SDLAs should also be accepting the versions that were posted on April 13, 2016, on the FMCSA and National Registry Web sites that no longer include a revision date in the top left corner and the current version of the MER Form, MCSA-5875, that is posted on the FMCSA and National Registry Web sites that no longer includes the Privacy Act Statement on page one. On the other hand, SDLAs should not accept versions of the MEC that have not been approved by OMB and do not display both the FMCSA form number (MCSA-5876) and the OMB expiration date of August 31, 2018. The final versions of the forms published on the FMCSA and National Registry Web sites are shown below for your reference.

BILLING CODE 4910-EX-P

Issued on: October 20, 2016.
T.F. Scott Darling, III,
Administrator.

[FR Doc. 2016-25976 Filed 10-26-16; 8:45 am]

BILLING CODE 4910-EX-c